DEPARTMENT OF HEALTH AND HUMAN SERVICES

National Institutes of Health

National Library of Medicine; Notice of Meeting

Notice is hereby given of the first Clinical Trials Working Group of the National Library of Medicine's (NLM) Board of Regents.

The meeting will be open to the public, with attendance limited to space available. Individuals who plan to attend and need special assistance, such as sign language interpretation or other reasonable accommodations, should notify the Contact Person listed below in advance of the meeting.

The Working Group was established to advise the NLM Board of Regents on issues associated with the expansion of the Clinicaltrials.gov registry and the addition of a results database. It will consider new legislative mandates, in particular Public Law 110-85, and consult as necessary with relevant stakeholders and potential users of the ClinicalTrials.gov system to provide advice on initial implementation issues and longer-term strategies for enhancing the content and operation of the database.

Name of Committee: Clinical Trials Working Group.

Date: February 11, 2008.

Time: 9 a.m. to 3 p.m.

Agenda: To review clinical trials registration and results reporting.

Place: National Library of Medicine, Building 38, Board Room, 2nd Floor, 8600 Rockville Pike, Bethesda, MD 20894.

Contact Person: Christine Ireland, Committee Management Officer, National Library of Medicine, 6705 Rockledge Drive, Rockledge 1, Suite 301, Bethesda, MD 20892, 301-594-4929, irelanc@mail.nih.gov.

Any interested person may file written comments with the committee by forwarding the statement to the Contact Person listed on this notice. The comments should include the name, address, telephone number and, when applicable, the business or professional affiliation of the interested person.

Dated: January 11, 2008.
Jennifer Spaeth,
Director, Office of Federal Advisory Committee Policy.

[FR Doc. 08-158 Filed 1-17-08; 8:45 am]

BILLING CODE 4140-01-M